COMMISSION ON CIVIL RIGHTS

Notice of Public Meeting of the Tennessee Advisory Committee

AGENCY: U.S. Commission on Civil Rights.

ACTION: Notice of meeting.

SUMMARY: Notice is hereby given, pursuant to the provisions of the rules and regulations of the U.S. Commission on Civil Rights (Commission) and the Federal Advisory Committee Act that the Tennessee Advisory Committee will hold a public meeting on Friday, April 5, 2019; 1:30-2:30 p.m. Eastern to discuss testimony heard on March 27, 2019, regarding Legal Financial Obligation (LFO) and discuss and potentially vote on a statement to the Commission based on testimony heard.

DATES: The meeting will be held on Wednesday, April 5, 2019; 1:30-2:30 p.m. EDT.

Public Call Information: Call: 855-719-5012; Conference ID: 8658771.

FOR FURTHER INFORMATION CONTACT: Jeff Hinton, DFO, at (312) 353-8311 or via email at jhinton@usccr.gov.

SUPPLEMENTARY INFORMATION: Members of the public are invited to come in and listen to the discussion. Written comments will be accepted until April 30, 2019 and may be mailed to the Regional Program Unit Office, U.S. Commission on Civil Rights, 230 S. Dearborn, Suite 2120, Chicago, IL 60604. They may also be faxed to the Commission at (312) 353-8324 or may be emailed to the Alejandro Ventura at aventura@usccr.gov. Records of the meeting will be available via www.facadatabase.gov under the Commission on Civil Rights, Tennessee Advisory Committee link. Persons interested in the work of this Committee are directed to the Commission's website, http://www.usccr.gov, or may contact the Regional Office at the above email or street address.

Agenda

Welcome and Call to Order

Diane DiIanni, Tennessee SAC Chairman

New Business: Diane DiIanni, Tennessee SAC Chairman/Staff/Advisory Committee

Discussion of testimony heard at public meeting (LFO)

Consideration of statement to the Commission

Public Participation

Adjournment

Dated: March 29, 2019.
David Mussatt,
Supervisory Chief, Regional Programs Unit.

[FR Doc. 2019-06435 Filed 4-2-19; 8:45 am]

BILLING CODE P